ENVIRONMENTAL PROTECTION AGENCY

[FRL-6956-5]

South Bay Asbestos Superfund Site Proposed Notice of Administrative Settlement

AGENCY: Environmental Protection Agency (EPA).

ACTION: Notice; request for public comment.

SUMMARY: In accordance with Section 122(I) of the Comprehensive Environmental Response, Compensation and Liability Act of 1980, as amended by the Superfund Amendments and Reauthorization Act of 1986 (“CERCLA”), 42 U.S.C. 9600 et seq., notice is hereby given that a proposed administrative cost recovery settlement concerning the South Bay Asbestos Site in San Jose, California was executed by the Agency on September 14, 2000. The proposed administrative settlement would resolve, pursuant to CERCLA section 122(h), the liability of Cargill Corporation, the previous owner of the Highway 237 Disposal Site (formerly known as Marshland Landfill) for past and future costs of the United States with respect to the South Bay Asbestos Area Superfund Site. Under the terms of the agreement, Cargill would pay EPA $50,000.

For thirty (30) calendar days following the date of publication of this notice, EPA will receive written comments relating to the proposed settlement. If requested prior to the expiration of this public comment period, EPA will provide an opportunity for a public meeting in the effected area. EPA's response to any comments received will be available for public inspection at the U.S. Environmental Protection Agency, 75 Hawthorne Street, San Francisco, CA 94105.

DATES: Comments must be submitted on or before April 26, 2001.

ADDRESSES: Comments should be sent to Kara Christenson, Assistant Regional Counsel (ORC-2), Office of Regional Counsel. USEPA Region IX , 75 Hawthorne Street, San Francisco, CA 94105.

Availability

The proposed settlement is available for public inspection at the U.S. Environmental Protection Agency, 75 Hawthorne Street, San Francisco, CA 94105. A copy of the proposed settlement may be obtained from Kara Christenson, Assistant Regional Counsel (ORC-2), Office of Regional Counsel, U.S. EPA Region IX, 75 Hawthorne Street, San Francisco, CA 94105. Comments should reference “Cargill, South Bay Asbestos Area Superfund Site,” and “Docket No. 2000-10”.

FOR FURTHER INFORMATION CONTACT: Kara Christenson, Assistant Regional Counsel (ORC-2), Office of Regional Counsel, U.S. EPA Region IX, 75 Hawthorne Street, San Francisco, CA 94105; E-mail: christenson.kara@epa.gov; phone: (415) 744-1330.

Dated: February 23, 2001.
John Kemmerer,
Acting Director, Superfund Division, EPA, Region IX.

[FR Doc. 01-7518 Filed 3-26-01; 8:45 am]

BILLING CODE 6560-50-P